DEPARTMENT OF ENERGY

Federal Energy Regulatory Commission

Combined Notice of Filings #3

Take notice that the Commission received the following electric rate filings:

Docket Numbers: ER14-1263-000.

Applicants: Entergy Gulf States Louisiana, L.L.C.

Description: Report Filing: EGSL Refund Report ER14-1263 to be effective N/A.

Filed Date: 1/27/16.

Accession Number: 20160127-5463.

Comments Due: 5 p.m. ET 2/17/16.

Docket Numbers: ER14-1268-000.

Applicants: Entergy Arkansas, Inc.

Description: Report Filing: EAI Refund Report ER14-1268 to be effective N/A.

Filed Date: 1/27/16.

Accession Number: 20160127-5462.

Comments Due: 5 p.m. ET 2/17/16.

Docket Numbers: ER16-778-000.

Applicants: MATL LLP.

Description: Section 205(d) Rate Filing: MATL Tariff update to be effective 3/27/2016.

Filed Date: 1/27/16.

Accession Number: 20160127-5400.

Comments Due: 5 p.m. ET 2/17/16.

Docket Numbers: ER16-779-000.

Applicants: Southern California Edison Company.

Description: Section 205(d) Rate Filing: SCE WDAT Revision to be effective 1/1/2016.

Filed Date: 1/27/16.

Accession Number: 20160127-5416.

Comments Due: 5 p.m. ET 2/17/16.

Docket Numbers: ER16-780-000.

Applicants: Southwest Power Pool, Inc.

Description: Section 205(d) Rate Filing: 1166R27 Oklahoma Municipal Power Authority NITSA and NOA to be effective 1/1/2016.

Filed Date: 1/27/16.

Accession Number: 20160127-5429.

Comments Due: 5 p.m. ET 2/17/16.

Docket Numbers: ER16-781-000.

Applicants: Arizona Public Service Company.

Description: Section 205(d) Rate Filing: Rate Schedule No. 274—Planning Participation Agreement to be effective 10/1/2015.

Filed Date: 1/27/16.

Accession Number: 20160127-5430.

Comments Due: 5 p.m. ET 2/17/16.

Docket Numbers: ER16-782-000.

Applicants: Kansas City Power & Light Company.

Description: Section 205(d) Rate Filing: KCP&L Rate Schedule 130 Filing to be effective 11/11/2015.

Filed Date: 1/27/16.

Accession Number: 20160127-5433.

Comments Due: 5 p.m. ET 2/17/16.

Docket Numbers: ER16-783-000.

Applicants: RE Garland LLC.

Description: Section 205(d) Rate Filing: RE Garland Concurrence Filing to Shared Facilities Agreement to be effective 3/27/2016.

Filed Date: 1/27/16.

Accession Number: 20160127-5451.

Comments Due: 5 p.m. ET 2/17/16.

Docket Numbers: ER16-784-000.

Applicants: RE Garland A LLC.

Description: Section 205(d) Rate Filing: RE Garland A Concurrence Filing to Shared Facilities Agreement to be effective 3/27/2016.

Filed Date: 1/27/16.

Accession Number: 20160127-5452.

Comments Due: 5 p.m. ET 2/17/16.

Docket Numbers: ER16-785-000.

Applicants: Arizona Public Service Company.

Description: Section 205(d) Rate Filing: Service Agreement Nos. 353 and 354 to be effective 1/8/2016.

Filed Date: 1/27/16.

Accession Number: 20160127-5453.

Comments Due: 5 p.m. ET 2/17/16.

Docket Numbers: ER16-786-000.

Applicants: Repsol Energy North America Corporation.

Description: Section 205(d) Rate Filing: Notice of Change in Status and Proposed Revisions to Market-Based Rate Tariff to be effective 3/28/2016.

Filed Date: 1/27/16.

Accession Number: 20160127-5454.

Comments Due: 5 p.m. ET 2/17/16.

Docket Numbers: ER16-787-000.

Applicants: PJM Interconnection, L.L.C.

Description: Section 205(d) Rate Filing: Original Service Agreement No. 4398; Queue Position X2-027 to be effective 12/28/2015.

Filed Date: 1/27/16.

Accession Number: 20160127-5456.

Comments Due: 5 p.m. ET 2/17/16.

Docket Numbers: ER16-788-000.

Applicants: Entergy Louisiana, LLC.

Description: Section 205(d) Rate Filing: System Agreement—Compliance Update to be effective 1/28/2016.

Filed Date: 1/27/16.

Accession Number: 20160127-5458.

Comments Due: 5 p.m. ET 2/17/16.

Docket Numbers: ER16-789-000.

Applicants: Entergy New Orleans, Inc.

Description: Section 205(d) Rate Filing: System Agreement—Compliance Update to be effective 1/28/2016.

Filed Date: 1/27/16.

Accession Number: 20160127-5460.

Comments Due: 5 p.m. ET 2/17/16.

Docket Numbers: ER16-790-000.

Applicants: Entergy Texas, Inc.

Description: Section 205(d) Rate Filing: System Agreement—Compliance Update to be effective 1/28/2016.

Filed Date: 1/27/16.

Accession Number: 20160127-5461.

Comments Due: 5 p.m. ET 2/17/16.

Take notice that the Commission received the following electric securities filings:

Docket Numbers: ES16-20-000.

Applicants: Michigan Electric Transmission Company.

Description: Application under FPA Section 204 of Michigan Electric Transmission Company, LLC.

Filed Date: 1/27/16.

Accession Number: 20160127-5419.

Comments Due: 5 p.m. ET 2/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 27, 2016.
Nathaniel J. Davis, Sr.,
Deputy Secretary.

[FR Doc. 2016-01914 Filed 2-2-16; 8:45 am]

BILLING CODE 6717-01-P